ENVIRONMENTAL PROTECTION AGENCY

[ER-FRL-9024-2]

Environmental Impact Statements; Notice of Availability

Responsible Agency: Office of Federal Activities, General Information (202) 564-7146 or http://www2.epa.gov/nepa.

Weekly receipt of Environmental Impact Statements (EISs)

Filed 11/16/2015 Through 11/20/2015

Pursuant to 40 CFR 1506.9.

Notice

Section 309(a) of the Clean Air Act requires that EPA make public its comments on EISs issued by other Federal agencies. EPA's comment letters on EISs are available at: https://cdxnodengn.epa.gov/cdx-nepa-publication/eis/search.

EIS No. 20150332, Final, FDA, PRO, PROGRAMMATIC—Standards for the Growing, Harvesting, Packing, and Holding of Produce for Human Consumption, Review Period Ends: 12/28/2015, Contact: Annette McCarthy 240-402-1057.

EIS No. 20150333, Draft, USFWS, CA, Butte Regional Conservation Plan, Comment Period Ends: 02/16/2016, Contact: Dan Cox 916-414-6593.

EIS No. 20150334, Draft, USFS, CA, Rim Fire Reforestation, Comment Period Ends: 01/11/2016, Contact: Maria Benech 209-532-3671.

EIS No. 20150335, Final, NRC, IL, Generic—License Renewal of Nuclear Plants Regarding Braidwood Station Units 1 and 2, Review Period Ends: 12/28/2015, Contact: Richard G. Baum 301-415-0018.

EIS No. 20150336, Draft, USACE, AK, Donlin Gold Project, Comment Period Ends: 04/30/2016, Contact: Keith Gordon 907-753-5710.

Amended Notices

EIS No. 20150302, Draft, NPS, WY, Moose-Wilson Corridor Draft Comprehensive Management Plan, Comment Period Ends: 01/15/2016, Contact: Chris Church 303-969-2276; Revision to FR Notice Published 10/30/2015; Extending Comment Period from 12/29/2015 to 01/15/2016.

Dated: November 23, 2015.
Karin Leff,
Acting Director, NEPA Compliance Division, Office of Federal Activities.

[FR Doc. 2015-30183 Filed 11-25-15; 8:45 am]

BILLING CODE 6560-50-P